INTERNATIONAL TRADE COMMISSION

[Investigation No. 731-TA-1178 (Preliminary)]

Glyphosate From China

AGENCY: United States International Trade Commission.

ACTION: Revised schedule for the subject investigation.

DATES: Effective Date: April 16, 2010.

FOR FURTHER INFORMATION CONTACT: Amy Sherman (202-205-3289), Office of Investigations, U.S. International Trade Commission, 500 E Street, SW., Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its Internet server (http://www.usitc.gov). The public record for this investigation may be viewed on the Commission's electronic docket (EDIS) at http://edis.usitc.gov.

SUPPLEMENTARY INFORMATION: On March 31, 2010, the Commission established a schedule for the conduct of the subject investigation (75 FR 17768, April 7, 2010). Subsequently, the Department of Commerce extended the date for its initiation of the investigation from April 20, 2010 to May 10, 2010. The Commission, therefore, is revising its schedule to conform with Commerce's new schedule.

The Commission's new schedule for the investigation is as follows: The deadline for filing written briefs is May 4, 2010, the administrative deadline for transmitting the determination to Commerce is June 4, 2010, and the Commission's views are due to be transmitted to Commerce on June 11, 2010. For further information concerning the conduct of this investigation and rules of general application, consult the Commission's Rules of Practice and Procedure, part 201, subparts A through E (19 CFR part 201), and part 207, subparts A and B (19 CFR part 207).

Authority: This investigation is being conducted under authority of title VII of the Tariff Act of 1930; this notice is published pursuant to section 207.12 of the Commission's rules.

Issued: April 16, 2010.
By order of the Commission.
Marilyn R. Abbott,
Secretary to the Commission.

[FR Doc. 2010-9206 Filed 4-20-10; 8:45 am]

BILLING CODE 7020-02-P